DEPARTMENT OF COMMERCE

International Trade Administration

[A-570-122, C-570-123]

Certain Corrosion Inhibitors From the People's Republic of China: Antidumping Duty and Countervailing Duty Orders

AGENCY: Enforcement and Compliance, International Trade Administration, Department of Commerce.

SUMMARY: Based on affirmative final determinations by the Department of Commerce (Commerce) and International Trade Commission (ITC), Commerce is issuing antidumping duty (AD) and countervailing duty (CVD) orders on certain corrosion inhibitors (corrosion inhibitors) from the People's Republic of China (China).

DATES: Applicable March 19, 2021.

FOR FURTHER INFORMATION CONTACT: Andre Gziryan (AD), Theodore Pearson (CVD), or Nicholas Czajkowski (CVD), AD/CVD Operations, Office I, Enforcement and Compliance, International Trade Administration, U.S. Department of Commerce, 1401 Constitution Avenue NW, Washington, DC 20230; telephone: (202) 482-2201, (202) 482-2631, or (202) 482-1395, respectively.

SUPPLEMENTARY INFORMATION:

Background

In accordance with sections 705(d) and 735(d) of the Tariff Act of 1930, as amended (the Act), on January 29, 2021, Commerce published its affirmative final determination that countervailable subsides are being provided to producers and exporters of corrosion inhibitors from China and its affirmative final determination in the less-than-fair-value (LTFV) investigation of corrosion inhibitors from China.¹ On March 12, 2021, pursuant to sections 705(d) and 735(d) of the Act, the ITC notified Commerce of its final affirmative determinations that an industry in the United States is materially injured by reason of subsidized imports and LTFV imports of corrosion inhibitors from China, within the meaning of sections 705(b)(1)(A)(i) and 735(b)(1)(A)(i) of the Act.²

¹ See Certain Corrosion Inhibitors from the People's Republic of China: Final Affirmative Determination of Sales at Less Than Fair Value, 86 FR 7532 (January 29, 2021); see also Certain Corrosion Inhibitors from the People's Republic of China: Final Affirmative Countervailing Duty Determination, 86 FR 7537 (January 29, 2021) (CVD Final Determination).

² See ITC's Letter, “Notification of ITC Final Determinations,” dated March 12, 2021 (ITC Notification Letter).

Scope of the Orders

The products covered by these orders are corrosion inhibitors from China. For a full description of the scope of these orders, see Appendix I.

AD Order

As stated above, on March 12, 2021, in accordance with section 735(d) of the Act, the ITC notified Commerce of its final determination that an industry in the United States is materially injured within the meaning of section 735(b)(1)(A)(i) of the Act by reason of imports of corrosion inhibitors from China that are sold in the United States at LTFV.³ Therefore, in accordance with section 735(c)(2) of the Act, we are issuing this AD order. Because the ITC determined that imports of corrosion inhibitors from China are materially injuring a U.S. industry, unliquidated entries of such merchandise from China entered, or withdrawn from warehouse, for consumption are subject to the assessment of antidumping duties.

³ Id.

Therefore, in accordance with sections 736(a)(1) of the Act, Commerce will direct U.S. Customs and Border Patrol (CBP) to assess, upon further instruction by Commerce, antidumping duties equal to the amount by which the normal value of the merchandise exceeds the export price (or constructed export price) of the merchandise and countervailing duties for all relevant entries of corrosion inhibitors from China. Antidumping duties will be assessed on unliquidated entries of corrosion inhibitors from China entered, or withdrawn from warehouse, for consumption on or after September 10, 2020, the date of publication of the AD Preliminary Determination, but will not include entries occurring after the expiration of the provisional measures period and before publication of the ITC's final injury determination, as further described below.⁴

⁴ See Certain Corrosion Inhibitors from the People's Republic of China: Preliminary Affirmative Determination of Sales at Less Than Fair Value, Postponement of Final Determination, and Extension of Provisional Measures, 85 FR 55825 (September 10, 2020) (AD Preliminary Determination), and accompanying Preliminary Decision Memorandum (PDM).

Continuation of Suspension of Liquidation—AD

Except as noted in the “Provisional Measures—AD” section of this notice, in accordance with section 735(c)(1)(B) of the Act, Commerce will instruct CBP to continue to suspend liquidation on all relevant entries of corrosion inhibitors from China. These instructions suspending liquidation will remain in effect until further notice.

Commerce will also instruct CBP to require cash deposits equal to the estimated weighted-average dumping margins indicated in the table below, adjusted by the export subsidy offset. Accordingly, effective on the date of publication in the Federal Register of the notice of the ITC's final affirmative injury determination, CBP must require, at the same time as importers would deposit estimated normal customs duties on subject merchandise, a cash deposit equal to the rates listed in the table below.

Estimated Weighted-Average Dumping Margins

The estimated weighted-average dumping margins are as follows:

Producer | Exporter | Estimated weighted-average dumping margin (percent) | Cash deposit rate (adjusted for subsidy offsets) (percent)
Nantong Botao Chemical Co., Ltd | Jiangyin Delian Chemical Co., Ltd | 130.52 | 72.50
Nantong Kanghua Chemical Co., Ltd | Jiangyin Delian Chemical Co., Ltd | 130.52 | 72.50
Nantong Botao Chemical Co., Ltd | Nantong Botao Chemical Co., Ltd | 139.41 | 101.71
Anhui Trust Chem Co., Ltd | Anhui Trust Chem Co., Ltd | 134.97 | 87.11
Gold Chemical Limited | Gold Chemical Limited | 134.97 | 87.11
Jiangsu Bohan Industry Trade Co., Ltd | Gold Chemical Limited | 134.97 | 87.11
Jiangyin Gold Fuda Chemical Co., Ltd | Gold Chemical Limited | 134.97 | 87.11
Ningxia Ruitai Technology Co., Ltd | Gold Chemical Limited | 134.97 | 87.11
SHANGHAI SUNTECH BIOCHEMICAL CO., LTD | Gold Chemical Limited | 134.97 | 87.11
Nantong Kanghua Chemical Co., Ltd | Nantong Kanghua Chemical Co., Ltd | 134.97 | 87.11
Anhui Trust Chem Co., Ltd | Nanjing Trust Chem Co., Ltd | 134.97 | 87.11
China-Wide Entity | 277.90 | 241.02

Provisional Measures—AD

Section 733(d) of the Act states that suspension of liquidation pursuant to an affirmative preliminary determination may not remain in effect for more than four months, except where exporters representing a significant proportion of exports of the subject merchandise request that Commerce extend the four-month period to no more than six months. At the request of exporters that account for a significant proportion of corrosion inhibitors from China, Commerce extended the four-month period to six months in this AD investigation. Commerce published the AD Preliminary Determination in this investigation on September 10, 2020.⁵

⁵ See AD Preliminary Determination.

The extended provisional measures period, beginning on the date of publication of the preliminary determination, ended on March 8, 2021. Therefore, in accordance with section 733(d) of the Act and our practice, Commerce will instruct CBP to terminate the suspension of liquidation and to liquidate, without regard to antidumping duties, unliquidated entries of corrosion inhibitors from China entered, or withdrawn from warehouse, for consumption after March 8, 2021, the final day on which the provisional measures were in effect, until and through the day preceding the date of publication of the ITC's final affirmative injury determination in the Federal Register. Suspension of liquidation and the collection of cash deposits will resume on the date of publication of the ITC's final determination in the Federal Register.

CVD Order

As stated above, on March 12, 2021, in accordance with section 705(d) of the Act, the ITC notified Commerce of its final determination that an industry in the United States is materially injured within the meaning of section 705(b)(1)(A)(i) of the Act by reason of subsidized imports of corrosion inhibitors from China.⁶ Therefore, in accordance with section 705(c)(2) of the Act, Commerce is issuing this CVD order. Because the ITC determined that imports of corrosion inhibitors from China are materially injuring a U.S. industry, unliquidated entries of such merchandise from China, entered, or withdrawn from warehouse, for consumption, are subject to the assessment of countervailing duties.

⁶ See ITC Notification Letter.

Therefore, in accordance with section 706(a) of the Act, Commerce will direct CBP to assess, upon further instruction by Commerce, countervailing duties for all relevant entries of corrosion inhibitors from China, which are entered, or withdrawn from warehouse, for consumption on or after July 13, 2020, the date of publication of the CVD Preliminary Determination, but will not include entries occurring after the expiration of the provisional measures period and before the publication of the ITC's final injury determination under section 705(b) of the Act, as further described in the “Provisional Measures—CVD” section of this notice.⁷

⁷ See Certain Corrosion Inhibitors from the People's Republic of China: Preliminary Affirmative Countervailing Duty Determination, and Alignment of Final Determination with Final Antidumping Duty Determination, 85 FR 41960 (July 13, 2020) (CVD Preliminary Determination), and accompanying PDM.

Suspension of Liquidation and Cash Deposits—CVD

In accordance with section 706 of the Act, Commerce will instruct CBP to reinstitute the suspension of liquidation of corrosion inhibitors from China, effective on the date of publication of the ITC's final affirmative injury determination in the Federal Register, and to assess, upon further instruction by Commerce, pursuant to section 706(a)(1) of the Act, countervailing duties for each entry of the subject merchandise in an amount based on the net countervailable subsidy rates below. On or after the date of publication of the ITC's final injury determination in the Federal Register, CBP must require, at the same time as importers would deposit estimated normal customs duties on this merchandise, a cash deposit equal to the rates listed in the table below. These instructions suspending liquidation will remain in effect until further notice. The all-others rate applies to all producers or exporters not specifically listed below, as appropriate.

⁸ Commerce found Nantong Yutu Group Co., Ltd. to be a cross-owned affiliate of mandatory respondent Nantong Botao Chemical Co., Ltd. The name of this company was inadvertently omitted from the final determination notice. See CVD Final Determination and accompanying Issues and Decision Memorandum. This company was listed in the CVD Preliminary Determination and accompanying PDM at 9, and there were no changes which impacted this cross-ownership determination for the final determination.

Company | Subsidy rate (percent)
Jiangyin Delian Chemical Co., Ltd | 93.05
Nantong Botao Chemical Co., Ltd ⁸ | 61.62
CAC Shanghai Chemical Co., Ltd | 239.21
Jiangyin Gold Fuda Chemical Co., Ltd | 239.21
Xinji Xi Chen Re Neng Co., Ltd | 239.21
All Others | 77.34

Provisional Measures—CVD

Section 703(d) of the Act states that the suspension of liquidation pursuant to an affirmative preliminary determination may not remain in effect for more than four months. Commerce published the CVD Preliminary Determination on July 13, 2020.⁹ As such, the four-month period beginning on the date of the publication of the CVD Preliminary Determination ended on November 9, 2020. Furthermore, section 707(b) of the Act states that definitive duties are to begin on the date of publication of the ITC's final injury determination.

⁹ See CVD Preliminary Determination.

Therefore, in accordance with section 703(d) of the Act, we instructed CBP to terminate the suspension of liquidation and to liquidate, without regard to countervailing duties, unliquidated entries of corrosion inhibitors from China entered, or withdrawn from warehouse, for consumption, on or after November 10, 2020, the date on which the provisional measures expired, until and through the day preceding the date of publication of the ITC's final injury determination in the Federal Register. Suspension of liquidation will resume on the date of publication of the ITC's final determination in the Federal Register.

Notification to Interested Parties

This notice constitutes the AD and CVD orders with respect to corrosion inhibitors from China pursuant to section 706(a) and 736(a) of the Act. Interested parties can find a list of AD and CVD orders currently in effect at http://enforcement.trade.gov/stats/iastats1.html.

These orders are published in accordance with sections 706(a) and 736(a) of the Act, and 19 CFR 351.211(b).

Dated: March 15, 2021.
Christian Marsh,
Acting Assistant Secretary for Enforcement and Compliance.

Appendix I

Scope of the Orders

The merchandise covered by these orders is tolyltriazole and benzotriazole. This includes tolyltriazole and benzotriazole of all grades and forms, including their sodium salt forms. Tolyltriazole is technically known as Tolyltriazole IUPAC 4,5 methyl benzotriazole. It can also be identified as 4,5 methyl benzotriazole, tolutriazole, TTA, and TTZ.

Benzotriazole is technically known as IUPAC 1,2,3-Benzotriazole. It can also be identified as 1,2,3-Benzotriazole, 1,2-Aminozophenylene, lH-Benzotriazole, and BTA.

All forms of tolyltriazole and benzotriazole, including but not limited to flakes, granules, pellets, prills, needles, powder, or liquids, are included within the scope of these orders.

The scope includes tolyltriazole/sodium tolyltriazole and benzotriazole/sodium benzotriazole that are combined or mixed with other products. For such combined products, only the tolyltriazole/sodium tolyltriazole and benzotriazole/sodium benzotriazole component is covered by the scope of these orders. Tolyltriazole and sodium tolyltriazole that have been combined with other products is included within the scope, regardless of whether the combining occurs in third countries.

Tolyltriazole, sodium tolyltriazole, benzotriazole and sodium benzotriazole that is otherwise subject to these orders is not excluded when commingled with tolyltriazole, sodium tolyltriazole, benzotriazole, or sodium benzotriazole from sources not subject to these orders. Only the subject merchandise component of such commingled products is covered by the scope of these orders.

A combination or mixture is excluded from these orders if the total tolyltriazole or benzotriazole component of the combination or mixture (regardless of the source or sources) comprises less than 5 percent of the combination or mixture, on a dry weight basis.

Notwithstanding the foregoing language, a tolyltriazole or benzotriazole combination or mixture that is transformed through a chemical reaction into another product, such that, for example, the tolyltriazole or benzotriazole can no longer be separated from the other products through a distillation or other process is excluded from these orders.

Tolyltriazole has the Chemical Abstracts Service (CAS) registry number 299385-43-1. Tolyltriazole is classified under Harmonized Tariff Schedule of the United States (HTSUS) subheading 2933.99.8220.

Sodium Tolyltriazole has the CAS registry number 64665-57-2 and is classified under HTSUS subheading 2933.99.8290.

Benzotriazole has the CAS registry number 95-14-7 and is classified under HTSUS subheading 2933.99.8210.

Sodium Benzotriazole has the CAS registry number 15217-42-2. Sodium Benzotriazole is classified under HTSUS subheading 2933.99.8290.

Although the HTSUS subheadings and CAS registry numbers are provided for convenience and customs purposes, the written description of the scope of these orders is dispositive.

[FR Doc. 2021-05742 Filed 3-18-21; 8:45 am]

BILLING CODE 3510-DS-P